DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Mid-Continent Railway Historical Society, Inc.

[Docket Number FRA-2006-26300]

On March 15, 2007, FRA granted a waiver of compliance from certain provisions of the safety glazing standards, as prescribed by 49 CFR Section 223.11, Requirements for existing locomotives, to the Mid-Continent Railway Historical Society, Inc. (MCRY) for diesel-electric Locomotive Number 1256. Condition Number 1 of the above-referenced approval letter states: “This approval of the requirements of 49 CFR Section 223.11(c) shall apply to MCRY 1256 while operating on MCRY property at speeds not exceeding 10 mph.” On December 31, 2007, MCRY asked FRA for reconsideration of Condition Number 1 to allow an increase in operating speed of the locomotive from 10 mph to 15 mph.

MCRY is a tourist railroad operating over 4.2 miles of private rights-of-way in rural Wisconsin, with a track speed of 15 mph. In addition, FRA previously granted safety glazing waivers to MCRY for two of their diesel locomotives with maximum operating speeds of 15 mph. The petitioner states that when more than one train is operated at a time, it places an undue hardship on them by restricting the speed of Locomotive Number 1256 to 10 mph. There have been no reported accidents/injuries at MCRY related to safety glazing, and the change would make the conditions of this waiver consistent with those of the two previously granted. Pursuant to the receipt of the waiver request, FRA is hereby providing the public an opportunity to comment on this waiver.

Interested parties are invited to participate in these proceedings by submitting written views, data, or comments. All communications concerning these proceedings should identify the appropriate docket number (FRA-2006-26300) and may be submitted by one of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

FRA does not anticipate scheduling a public hearing in connection with these proceedings since the facts do not appear to warrant a hearing. If any interested party desires an opportunity for oral comment, they should notify FRA, in writing, before the end of the comment period and specify the basis for their request.

Communications received within 30 days of the date of this notice or within 30 days following the filing of supporting safety data, whichever is later, will be considered by FRA before final action is taken. Comments received after that date will be considered as far as practicable.

All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment on behalf of an association, business, labor union, etc.). You may review DOT's complete Privacy Act Statement in the Federal Register published on April 11, 2000 (Volume 65, Number 70; Pages 19477-78).

Issued in Washington, DC on June 5, 2008.
Grady C. Cothen, Jr.,
Deputy Associate Administrator for Safety Standards and Program Development.

[FR Doc. E8-13113 Filed 6-10-08; 8:45 am]

BILLING CODE 4910-06-P